FEDERAL MARITIME COMMISSION

Ocean Transportation Intermediary License Revocation

The Federal Maritime Commission hereby gives notice that the following Ocean Transportation Intermediary licenses have been revoked pursuant to section 19 of the Shipping Act of 1984 (46 U.S.C. Chapter 409) and the regulations of the Commission pertaining to the licensing of Ocean Transportation Intermediaries, 46 CFR Part 515, effective on the corresponding date shown below:

License Number: 001393F.

Name: McLean Cargo Specialists, Incorporated.

Address: 16680 Central Green Blvd., Houston, TX 77032.

Date Revoked: December 17, 2010.

Reason: Failed to maintain a valid bond.

License Number: 003134F.

Name: Enterprise Forwarders, Inc.

Address: 8555 NW. 29th Street, Doral, FL 33122.

Date Revoked: December 15, 2010.

Reason: Failed to maintain a valid bond.

License Number: 004094F.

Name: All Transport, Inc.

Address: 8369 NW. 66th Street, Miami, FL 33166.

Date Revoked: December 24, 2010.

Reason: Failed to maintain a valid bond.

License Number: 4413F.

Name: Industrial Connections, Inc.

Address: 300 Park Blvd., Suite 165, Itasca, IL 60143.

Date Revoked: December 12, 2010.

Reason: Failed to maintain a valid bond.

License Number: 004659F.

Name: Baron Worldwide, Inc.

Address: 5282 S. Newton Street, Littleton, CO 80123.

Date Revoked: December 1, 2010.

Reason: Failed to maintain a valid bond.

License Number: 14443N.

Name: Advance Ocean Inc.

Address: 17870 Castleton Street, Suite 255, City of Industry, CA 91748.

Date Revoked: December 6, 2010.

Reason: Failed to maintain a valid bond.

License Number: 015837N.

Name: Air Sea Containers, Inc.

Address: 2749 NW. 82nd Avenue, Miami, FL 33122.

Date Revoked: December 14, 2010.

Reason: Failed to maintain a valid bond.

License Number: 016159N.

Name: American Pioneer Shipping L.L.C.

Address: 80 Morristown Road, Room 273, Bernardsville, NJ 07924.

Date Revoked: December 18, 2010.

Reason: Failed to maintain a valid bond.

License Number: 16722N.

Name: Can-Med Lines (USA) Inc.

Address: 21163 Twinridge Square, Sterling, VA 20164.

Date Revoked: December 30, 2010.

Reason: Surrendered license voluntarily.

License Number: 017526N.

Name: Intertainer Line, Inc.

Address: 5839 Bender Road, Houston, TX 77396.

Date Revoked: December 8, 2010.

Reason: Failed to maintain a valid bond.

License Number: 018694F.

Name: Global Parcel System LLC.

Address: 8304 NW. 30th Terrace, Miami, FL 33122.

Date Revoked: December 10, 2010.

Reason: Failed to maintain a valid bond.

License Number: 019297N.

Name: Premier Van Lines, Inc.

Address: 3953 South 200th East, Salt Lake City, UT 84107.

Date Revoked: December 17, 2010.

Reason: Failed to maintain a valid bond.

License Number: 019689N.

Name: Powin Express, Inc.

Address: 1224 Santa Anita Avenue, Suite F, South El Monte, CA 91733.

Date Revoked: December 4, 2010.

Reason: Failed to maintain a valid bond.

License Number: 019753N.

Name: S Cargo International, Inc.

Address: 3255 Wilshire Blvd., Suite 803, Los Angeles, CA 90010.

Date Revoked: December 1, 2010.

Reason: Failed to maintain a valid bond.

License Number: 020410F.

Name: MBA Logistics, LLC.

Address: 11455 Narin Drive, Brighton, MI 48114.

Date Revoked: December 4, 2010.

Reason: Failed to maintain a valid bond.

License Number: 020477N.

Name: Omega Shipping (FL), Inc.

Address: 8710 NW 100th Street, Miami, FL 33178.

Date Revoked: December 1, 2010.

Reason: Failed to maintain a valid bond.

License Number: 020826NF.

Name: New World Forwarding LLC.

Address: 8524 Highway 6 North, Suite 276, Houston, TX 77095.

Date Revoked: December 14, 2010.

Reason: Failed to maintain valid bonds.

License Number: 021204NF.

Name: United Logistics Corp.

Address: 3650 Mansell Road, Suite 400, Alpharetta, GA 30022.

Date Revoked: December 18, 2010.

Reason: Failed to maintain valid bonds.

License Number: 021262NF.

Name: Amass International Group Inc.

Address: 13191 Crossroads Parkway North, Suite 385, City of Industry, CA 91746.

Date Revoked: December 18, 2010.

Reason: Failed to maintain valid bonds.

License Number: 021370NF.

Name: Encargo Export Corporation dba Encargo Lines dba Encargo Logistics.

Address: 10800 NW. 103rd Street, Miami, FL 33178.

Date Revoked: December 28, 2010.

Reason: Failed to maintain valid bonds.

License Number: 021562N.

Name: RDM Solutions, Inc.

Address: 154-09 146th Avenue, Suite 203, Jamaica, NY 11434.

Date Revoked: December 30, 2010.

Reason: Failed to maintain a valid bond.

License Number: 021566N.

Name: Alex O. De Guzman dba Eastern Express Cargo.

Address: 10717 Camino Ruiz, Suite 228, San Diego, CA 92126.

Date Revoked: December 9, 2010.

Reason: Failed to maintain a valid bond.

License Number: 022057F.

Name: Noah International Logistics, Inc.

Address: 110 Mackenzie Lane, Fayetteville, GA 30214.

Date Revoked: December 3, 2010.

Reason: Failed to maintain a valid bond.

Sandra L. Kusumoto,
Director, Bureau of Certification and Licensing.

[FR Doc. 2011-1175 Filed 1-19-11; 8:45 am]

BILLING CODE 6730-01-P